ENVIRONMENTAL PROTECTION AGENCY

40 CFR Parts 85, 86, 1036, 1037, 1065, 1066, and 1068

DEPARTMENT OF TRANSPORTATION

National Highway Traffic Safety Administration

49 CFR Parts 523, 534, and 535

[EPA-HQ-OAR-2014-0827; NHTSA-2014-0132; FRL-9942-94-OAR]

RIN 2060-AS16; RIN 2127-AL52

Greenhouse Gas Emissions and Fuel Efficiency Standards for Medium- and Heavy-Duty Engines and Vehicles—Phase 2—Notice of Data Availability

AGENCIES: Environmental Protection Agency (EPA) and Department of Transportation (DOT) National Highway Traffic Safety Administration (NHTSA).

ACTION: Notice of data availability.

SUMMARY: This Notice provides an opportunity to comment on new information being made available by the EPA and by NHTSA, on behalf of DOT, related to the proposed Phase 2 Heavy-Duty National Program proposed July 13, 2015, to reduce greenhouse gas emissions and fuel consumption for new on-road heavy-duty vehicles and engines. The new information, including memoranda and data, have been placed in the public dockets. Data relating to the potential stringency of the proposed standards includes: Powertrain data; additional aerodynamic test data; supplemental test data relating to drive cycles (and frequency thereof) for vocational vehicles; and cycle average mapping data. The agencies are soliciting additional comment on certain revised test reports, and a revised version of the Greenhouse Gas Emission Model (GEM) used both in developing certain of the proposed standards and in demonstrating compliance with those standards. Additionally, EPA is soliciting further comment on memoranda relating to standard applicability and implementation. These memoranda address potential requirements for selective enforcement audits and confirmatory testing related to greenhouse gas emissions, and applicability of emission standards and certification responsibilities for trailers, glider vehicles, and glider kits. Finally, EPA is soliciting additional comments on issues discussed in a late comment related to light-duty motor vehicles used for racing.

DATES: Comments must be received on or before April 1, 2016.

ADDRESSES: Submit your comments, identified by Docket ID No. EPA-HQ-OAR-2014-0827 (for EPA's docket) and NHTSA-2014-0132 (for NHTSA's docket), by one of the following methods:

• Online: www.regulations.gov: Follow the on-line instructions for submitting comments.

• Email: a-and-r-docket@epa.gov.

• Mail:

EPA: Air and Radiation Docket and Information Center, Environmental Protection Agency, Mailcode: 28221T, 1200 Pennsylvania Ave. NW., Washington, DC 20460.

NHTSA: Docket Management Facility, M-30, U.S. Department of Transportation, West Building, Ground Floor, Rm. W12-140, 1200 New Jersey Avenue SE., Washington, DC 20590.

• Hand Delivery:

EPA: EPA Docket Center, EPA WJC West Building, Room 3334, 1301 Constitution Ave. NW., Washington, DC 20460. Such deliveries are only accepted during the Docket's normal hours of operation, and special arrangements should be made for deliveries of boxed information.

NHTSA: West Building, Ground Floor, Rm. W12-140, 1200 New Jersey Avenue SE., Washington, DC 20590, between 9 a.m. and 4 p.m. Eastern Time, Monday through Friday, except Federal Holidays.

Instructions: Direct your comments to Docket ID No. EPA-HQ-OAR-2014-0827 and/or NHTSA-2014-0132, as follows:

EPA: Direct your comments to Docket ID No EPA-HQ-OAR-2014-0827. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

NHTSA: Your comments must be written and in English. To ensure that your comments are correctly filed in the Docket, please include the Docket number NHTSA-2014-0132 in your comments. Your comments must not be more than 15 pages long.¹ NHTSA established this limit to encourage you to write your primary comments in a concise fashion. However, you may attach necessary additional documents to your comments, and there is no limit on the length of the attachments. If you are submitting comments electronically as a PDF (Adobe) file, we ask that the documents submitted be scanned using the Optical Character Recognition (OCR) process, thus allowing the agencies to search and copy certain portions of your submissions.² Please note that pursuant to the Data Quality Act, in order for the substantive data to be relied upon and used by the agency, it must meet the information quality standards set forth in the OMB and Department of Transportation (DOT) Data Quality Act guidelines. Accordingly, we encourage you to consult the guidelines in preparing your comments. OMB's guidelines may be accessed at http://www.whitehouse.gov/omb/fedreg/reproducible.html. DOT's guidelines may be accessed at http://www.dot.gov/dataquality.htm.

¹ See 49 CFR 553.21.

² Optical character recognition (OCR) is the process of converting an image of text, such as a scanned paper document or electronic fax file, into computer-editable text.

Docket: All documents in the docket are listed on the www.regulations.gov Web site. Although listed in the index, some information is not publicly available, e.g., confidential business information or other information whose disclosure is restricted by statute. Certain other material, such as copyrighted material, is not placed on the Internet and will be publicly available only in hard copy form. Publicly available docket materials are available either electronically through www.regulations.gov or in hard copy at the following locations:

EPA: Air and Radiation Docket and Information Center, EPA/DC, EPA WJC West Building, 1301 Constitution Ave. NW., Room 3334, Washington, DC. The Public Reading Room is open from 8:30 a.m. to 4:30 p.m., Monday through Friday, excluding legal holidays. The telephone number for the Public Reading Room is (202) 566-1744, and the telephone number for the Air Docket is (202) 566-1742.

NHTSA: Docket Management Facility, M-30, U.S. Department of Transportation, West Building, Ground Floor, Rm. W12-140, 1200 New Jersey Avenue SE., Washington, DC 20590. The telephone number for the docket management facility is (202) 366-9324. The docket management facility is open between 9 a.m. and 5 p.m. Eastern Time, Monday through Friday, except Federal Holidays.

FOR FURTHER INFORMATION CONTACT: EPA: Tad Wysor, Office of Transportation and Air Quality, Assessment and Standards Division (ASD), Environmental Protection Agency, 2000 Traverwood Drive, Ann Arbor, MI 48105; telephone number: (734) 214-4332; email address: wysor.tad@epa.gov.

NHTSA: Ryan Hagen, Office of Chief Counsel, National Highway Traffic Safety Administration, 1200 New Jersey Avenue SE., Washington, DC 20590. Telephone: (202) 366-2992; ryan.hagen@dot.gov.

SUPPLEMENTARY INFORMATION:

A. Does this action apply to me?

This action relates to a previously promulgated Proposed Rule that would potentially affect companies that manufacture, sell, or import into the United States new heavy-duty engines and new Class 2b through 8 trucks, including combination tractors, all types of buses, vocational vehicles including municipal, commercial, recreational vehicles, and commercial trailers as well as ¾-ton and 1-ton pickup trucks and vans. The heavy-duty category incorporates all motor vehicles with a gross vehicle weight rating of 8,500 pounds or greater, and the engines that power them, except for medium-duty passenger vehicles already covered by the greenhouse gas standards and corporate average fuel economy standards issued for light-duty model year 2017-2025 vehicles. Proposed categories and entities that might be affected include the following:

Category | NAICS Code ᵃ | Examples of potentially affected entities
Industry | 336110 336111 336112 333618 | Motor Vehicle Manufacturers, Engine Manufacturers, Engine Parts Manufacturers, Truck Manufacturers, Truck Trailer Manufacturers, Automotive Parts and Accessories Dealers.
| 336120
| 336212
| 441310
Industry | 541514 811112 811198 | Commercial Importers of Vehicles and Vehicle Components.
Industry | 336111 | Alternative Fuel Vehicle Converters.
| 336112
| 422720
| 454312
| 541514
| 541690
| 811198
Note:
ᵃ North American Industry Classification System (NAICS).

This table is not intended to be exhaustive, but rather provides a guide for readers regarding entities likely covered by these rules. This table lists the types of entities that the agencies are aware may be regulated by this action. Other types of entities not listed in the table could also be regulated. To determine whether your activities are regulated by this action, you should carefully examine the applicability criteria in the referenced regulations. You may direct questions regarding the applicability of this action to the persons listed in the preceding FOR FURTHER INFORMATION CONTACT section.

B. Public Participation

EPA and NHTSA request comment on the information identified in this Notice. We are not requesting comment on other aspects of this joint proposed rule. This section describes how you can participate in this process.

(1) How do I prepare and submit comments?

There are many issues common to EPA's and NHTSA's proposals. For the convenience of all parties, comments submitted to the EPA docket will be considered comments submitted to the NHTSA docket, and vice versa. Therefore, a commenter only needs to submit comments to either of the agency dockets (or choose to submit a comment to both). Comments that are submitted for consideration by one agency should be identified as such, and comments that are submitted for consideration by both agencies should be identified as such. Absent such identification, each agency will exercise its best judgment to determine whether a comment is submitted on its proposal.

(2) Tips for Preparing Your Comments

When submitting comments, please remember to:

• Identify the rulemaking by docket number and other identifying information (subject heading, Federal Register date and page number)

• Explain why you agree or disagree, suggest alternatives, and substitute language for your requested changes

• Describe any assumptions and provide any technical information and/or data that you used

• If you estimate potential costs or burdens, explain how you arrived at your estimate in sufficient detail to allow for it to be reproduced

• Provide specific examples to illustrate your concerns, and suggest alternatives

• Explain your views as clearly as possible, avoiding the use of profanity or personal threats

• Make sure to submit your comments by the comment period deadline identified in the DATES section above

(3) How can I be sure that my comments were received?

NHTSA: If you submit your comments by mail and wish Docket Management to notify you upon its receipt of your comments, enclose a self-addressed, stamped postcard in the envelope containing your comments. Upon receiving your comments, Docket Management will return the postcard by mail.

(4) How do I submit confidential business information?

Any confidential business information (CBI) submitted to one of the agencies will also be available to the other agency. However, as with all public comments, any CBI information only needs to be submitted to either one of the agencies' dockets and it will be available to the other. Following are specific instructions for submitting CBI to either agency. If you have any questions about CBI or the procedures for claiming CBI, please consult the persons identified in the FOR FURTHER INFORMATION CONTACT section.

EPA: Do not submit CBI to EPA through www.regulations.gov or email. Clearly mark the part or all of the information that you claim to be CBI. For CBI information in a disk or CD ROM that you mail to EPA, mark the outside of the disk or CD ROM as CBI and then identify electronically within the disk or CD ROM the specific information that is claimed as CBI. Information not marked as CBI will be included in the public docket without prior notice. In addition to one complete version of the comment that includes information claimed as CBI, a copy of the comment that does not contain the information claimed as CBI must be submitted for inclusion in the public docket. Information so marked will not be disclosed except in accordance with procedures set forth in 40 CFR part 2.

NHTSA: If you wish to submit any information under a claim of confidentiality, you should submit three copies of your complete submission, including the information you claim to be confidential business information, to the Chief Counsel, NHTSA, at the address given above under FOR FURTHER INFORMATION CONTACT. When you send a comment containing confidential business information, you should include a cover letter setting forth the information specified in our confidential business information regulation.³

³ See 49 CFR part 512.

In addition, you should submit a copy from which you have deleted the claimed confidential business information to the Docket by one of the methods set forth above.

(5) How can I read the comments submitted by other people?

You may read the materials placed in the docket for this document (e.g., the comments submitted in response to this document by other interested persons) at any time by going to http://www.regulations.gov. Follow the online instructions for accessing the dockets. You may also read the materials at the EPA Docket Center or NHTSA Docket Management Facility by going to the street addresses given above under ADDRESSES.

C. Background

As part of the Climate Action Plan announced in June 2013,⁴ the President directed the EPA and NHTSA to set the next round of standards to reduce greenhouse gas (GHG) emissions and improve fuel efficiency for medium- and heavy-duty vehicles and engines. More than 70 percent of the oil used in the United States and 28 percent of GHG emissions come from the transportation sector, and since 2009 EPA and NHTSA have worked with industry and the State of California to develop ambitious, flexible standards for both the fuel economy and GHG emissions of light-duty vehicles and the fuel efficiency and GHG emissions of heavy-duty vehicles and engines.5 6 Throughout every stage of development for these programs, EPA and NHTSA (collectively, the agencies, or “we”) have worked in close partnership not only with each other, but with the vehicle and engine manufacturing industries, environmental community leaders, and the State of California, among other entities, to create a single, effective set of national standards.

⁴ The White House, The President's Climate Action Plan (June, 2013). http://www.whitehouse.gov/share/climate-action-plan.

⁵ The White House, Improving the Fuel Efficiency of American Trucks—Bolstering Energy Security, Cutting Carbon Pollution, Saving Money and Supporting Manufacturing Innovation (Feb. 2014), 2.

⁶ U.S. Environmental Protection Agency. 2014. Inventory of U.S. Greenhouse Gas Emissions and Sinks: 1990-2012. EPA 430-R-14-003. Mobile sources emitted 28 percent of all U.S. GHG emissions in 2012. Available at http://www.epa.gov/climatechange/Downloads/ghgemissions/US-GHG-Inventory-2014-Main-Text.pdf

The agencies' proposed Phase 2 standards (80 FR 40138, July 13, 2015) would phase in through model year 2027, and were intended to result in an ambitious, yet achievable program that would allow manufacturers to meet standards through a mix of different technologies at reasonable cost. The proposed Phase 2 program would build on and advance the model years 2014-2018 Phase 1 program in a number of important ways including: Basing standards not only on currently available technologies but also on utilization of technologies now under development or not yet widely deployed while providing significant lead time to assure adequate time to develop, test, and phase in these controls; developing standards for trailers; further encouraging innovation and providing flexibility; including vehicles produced by small business manufacturers; incorporating enhanced test procedures that (among other things) allow individual drivetrain and powertrain performance to be reflected in the vehicle certification process; and using an expanded and improved compliance simulation model.

This notice alerts the public to new information placed in the agencies' public dockets, and solicits comment on that information. The information takes the form of raw data, revised test reports, and memoranda that in some instances indicate potential implications of the data for purposes of standard stringency and implementation. In addition to information placed into the docket by the agencies, EPA also solicits comments on issues discussed in a late public comment that addresses proposed regulations related to light-duty motor vehicles used for racing. The agencies will accept comments on these materials through April 1, 2016. The agencies will not address new comments extraneous to these materials in the final rulemaking or its associated documents.

D. Newly Docketed Materials on Which the Agencies Are Seeking Public Comment

EPA Docket No. | NHTSA Docket No. | Title | Description
EPA-HQ-OAR-2014-0827-1626 | NHTSA-2014-0132-0181 | Greenhouse Gas Emissions Model (GEM) P2v2.1 | A new release of the GEM simulation tool contains revisions that include fixing bugs identified by commenters; enhancements to accommodate cycle averaged fuel maps, transmission efficiency test results, and axle efficiency test results; refinements to the transmission shifting strategies; revised vocational vehicle drive cycle weightings; and a revised road grade profile. Details regarding the revisions are included in the summary file in the docket entry.
EPA-HQ-OAR-2014-0827-1620 | NHTSA-2014-0132-0182 | Default Gasoline Engine Fuel Map for Use in GEM | EPA sponsored testing of a heavy-duty gasoline engine at Southwest Research Institute. Those results were used to develop a new default fuel map that could be used to develop the final spark-ignited vocational vehicle standards.
EPA-HQ-OAR-2014-0827-1622 | NHTSA-2014-0132-0183 | Oak Ridge National Laboratory Powertrain Data | EPA sponsored additional testing on heavy-duty powertrains at Oak Ridge National Laboratory. Cycle results are presented from two powertrain configurations.
EPA-HQ-OAR-2014-0827-1619 | NHTSA-2014-0132-0184 | Southwest Research Institute Program Update on Cycle Average Mapping Data | EPA sponsored additional testing on two heavy-duty engines each with two different horsepower ratings. Information includes the cycle average testing results and findings are included.
EPA-HQ-OAR-2014-0827-1623 | NHTSA-2014-0132-0185 | Final Southwest Research Institute Report to NHTSA: Commercial Medium- and Heavy-Duty Truck Fuel Efficiency Technology Study—Report #2 | A pre-peer review draft version of this report was released in June of 2015. Independent peer review and public release of the draft report identified errors in the analysis in the draft report that were corrected in this final version.
EPA-HQ-OAR-2014-0827-1624 | NHTSA-2014-0132-0186 | Supplemental Aerodynamic Data from EPA Testing | EPA conducted additional aerodynamic testing using the coastdown, constant speed, wind tunnel, and computational fluid dynamics test procedures since the NPRM was issued. This docket entry includes the raw data from each of these test programs.
EPA-HQ-OAR-2014-0827-1621 | NHTSA-2014-0132-0187 | Vocational Vehicle Drive Cycle Data: Draft Report produced by the National Renewable Energy Laboratory entitled “The Development of Vocational Vehicle Drive Cycles and Segmentation” | The National Renewable Energy Laboratory (NREL) collaborated with EPA and conducted a vocational vehicle segmentation evaluation based on NREL's Fleet DNA database. This analysis is intended to inform the final vocational vehicle drive cycle weightings.
EPA-HQ-OAR-2014-0827-1625 | NHTSA-2014-0132-0188 | Additional Discussion of Selective Enforcement Audit and Confirmatory Testing for Aerodynamic Parameters | Commenters raised concerns about the proposed audit testing and the need for consideration of compliance margins for the audit's results. The memorandum provides additional discussion of how EPA's audits could be conducted, and key principles related to these requirements.
EPA-HQ-OAR-2014-0827-1627 | NHTSA-2014-0132-0189 | Legal Memorandum Discussing Issues Pertaining to Trailers, Glider Vehicles, and Glider Kits under the Clean Air Act | Draft legal memorandum discussing issues relating to authority under the Clean Air Act to promulgate emission standards for trailers and glider vehicles, certification responsibilities of manufacturers of trailers and glider kits, and potential CO2 emission standards for different model year glider vehicles.
EPA-HQ-OAR-2014-0827-1469-A1 | Not Applicable; this is in relation to an EPA-specific section of the NPRM | Public Comment from the Specialty Equipment Market Association | This comment addresses how a proposed amendment related to the Clean Air Act's prohibition of tampering of emission controls would impact light-duty vehicles used for racing and raises questions about whether adequate notice was given for this proposed amendment.

Issued under authority of 49 U.S.C. 32901, 32905, and 32906; delegation of authority at 49 CFR 1.95.

Dated: February 24, 2016.
Raymond R. Posten,
Associate Administrator for Rulemaking, National Highway Traffic Safety Administration.
Dated: February 24, 2016.
Christopher Grundler,
Director, Office of Transportation and Air Quality, Environmental Protection Agency.

[FR Doc. 2016-04613 Filed 3-1-16; 8:45 am]

BILLING CODE 6560-50-P